DEPARTMENT OF AGRICULTURE

Food Safety and Inspection Service

[FDMS Docket No. FSIS-2008-0004]

International Standard-Setting Activities

AGENCY: Food Safety and Inspection Service, USDA.

ACTION: Notice.

SUMMARY: This notice informs the public of the sanitary and phytosanitary standard-setting activities of the Codex Alimentarius Commission (Codex), in accordance with section 491 of the Trade Agreements Act of 1979, as amended, and the Uruguay Round Agreements Act, Public Law 103-465, 108 Stat. 4809. This notice also provides a list of other standard-setting activities of Codex, including commodity standards, guidelines, codes of practice, and revised texts. This notice, which covers the time periods from June 1, 2007, to May 31, 2008, and June 1, 2008, to May 31, 2009, seeks comments on standards under consideration and recommendations for new standards.

ADDRESSES: Comments may be submitted by any of the following methods:

• Federal eRulemaking Portal: This Web site provides the ability to type short comments directly into the comment field on this Web page or attach a file for lengthier comments. FSIS prefers to receive comments through the Federal eRulemaking Portal. Go to http://www.regulations.gov and, in the “Search for Open Regulations” box, select “Food Safety and Inspection Service” from the agency drop-down menu, and then click on “Submit.” In the Docket ID column, select FDMS Docket Number FSIS-2008-0004 to submit or view public comments and to view supporting and related materials available electronically. After the close of the comment period, the docket can be viewed using the “Advanced Search” function in Regulations.gov.

• Mail, including floppy disks or CD-ROMs, and hand- or courier-delivered items: Send to Docket Clerk, U.S. Department of Agriculture, Food Safety and Inspection Service, Room 2534, South Agriculture Building, 1400 Independence Avenue, SW., Washington, DC 20250-3700.

All submissions must include the Agency name and docket number FSIS-2008-0004. Please state that your comments refer to Codex and, if your comments relate to specific Codex committees, please identify those committees in your comments and submit a copy of your comments to the delegate from that particular committee. All comments submitted in response to this proposal will be posted to the regulations.gov Web site. The comments also will be available for public inspection in the FSIS Docket Room at the address listed above between 8:30 a.m. and 4:30 p.m., Monday through Friday. The comments also will be posted on the Agency's Web site at http://www.fsis.usda.gov/regulations_&_policies/2008_Notices_Index/index.asp.

FOR FURTHER INFORMATION CONTACT: Karen Hulebak, PhD, Acting Manager, U.S. Codex Office, U.S. Department of Agriculture, Office of the Under Secretary for Food Safety, Room 4861, South Agriculture Building, 1400 Independence Avenue, SW., Washington, DC 20250-3700; (202) 205-7760. For information pertaining to particular committees, the delegate of that committee may be contacted. (A complete list of U.S. delegates and alternate delegates can be found in Attachment 2 to this notice.) Documents pertaining to Codex are accessible via the World Wide Web at the following address: http://www.codexalimentarius.net/current.asp. The U.S. Codex Office also maintains a Web site at http://www.fsis.usda.gov/Regulations_&_Policies/Codex_Alimentarius/index.asp.

SUPPLEMENTARY INFORMATION:

Background

The World Trade Organization (WTO) was established on January 1, 1995, as the common international institutional framework for the conduct of trade relations among its members in matters related to the Uruguay Round Trade Agreements. The WTO is the successor organization to the General Agreement on Tariffs and Trade (GATT). U.S. membership in the WTO was approved and the Uruguay Round Agreements Act was signed into law by the President on December 8, 1994. The Uruguay Round Agreements became effective, with respect to the United States, on January 1, 1995. Pursuant to section 491 of the Trade Agreements Act of 1979, as amended, the President is required to designate an agency to be “responsible for informing the public of the sanitary and phytosanitary (SPS) standard-setting activities of each international standard-setting organization.” The main organizations are Codex, the World Organisation for Animal Health, and the International Plant Protection Convention. The President, pursuant to Proclamation No. 6780 of March 23, 1995 (60 FR 15845), designated the U.S. Department of Agriculture as the agency responsible for informing the public of SPS standard-setting activities of each international standard-setting organization. The Secretary of Agriculture has delegated to the Administrator, Food Safety and Inspection Service (FSIS), the responsibility to inform the public of the SPS standard-setting activities of Codex. The FSIS Administrator has, in turn, assigned the responsibility for informing the public of the SPS standard-setting activities of Codex to the U.S. Codex Office, FSIS.

Codex was created in 1962 by two U.N. organizations, the Food and Agriculture Organization (FAO) and the World Health Organization (WHO). Codex is the principal international organization for encouraging fair international trade in food and protecting the health and economic interests of consumers. Through adoption of food standards, codes of practice, and other guidelines developed by its committees and by promoting their adoption and implementation by governments, Codex seeks to protect the health of consumers, ensure fair trade practices in the food trade, and promote coordination of food standards work undertaken by international governmental and non-governmental organizations. In the United States, the United States Department of Agriculture (USDA) the Food and Drug Administration (FDA), Department of Health and Human Services (HHS); and the Environmental Protection Agency (EPA) manage and carry out U.S. Codex activities.

As the agency responsible for informing the public of the SPS standard-setting activities of Codex, FSIS publishes this notice in the Federal Register annually. Attachment 1 (Sanitary and Phytosanitary Activities of Codex) sets forth the following information:

1. The SPS standards under consideration or planned for consideration; and

2. For each SPS standard specified:

a. A description of the consideration or planned consideration of the standard;

b. Whether the United States is participating or plans to participate in the consideration of the standard;

c. The agenda for United States participation, if any; and

d. The agency responsible for representing the United States with respect to the standard.

To Obtain Copies of Those Standards Listed in Attachment 1 That Are Under Consideration by Codex, Please Contact the Codex Delegate or the U.S. Codex Office. This notice also solicits public comment on those standards that are currently under consideration or planned for consideration and recommendations for new standards. The delegate, in conjunction with the responsible agency, will take the comments received into account in participating in the consideration of the standards and in proposing matters to be considered by Codex.

The United States delegate will facilitate public participation in the United States Government's activities relating to Codex Alimentarius. The United States delegate will maintain a list of individuals, groups, and organizations that have expressed an interest in the activities of the Codex committees and will disseminate information regarding United States delegation activities to interested parties. This information will include the status of each agenda item; the United States Government's position or preliminary position on the agenda items; and the time and place of planning meetings and debriefing meetings following Codex committee sessions. In addition, the U.S. Codex Office makes much of the same information available through its Web page, http://www.fsis.usda.gov/Regulations_&_Policies/Codex_Alimentarius/index.asp. Please visit the Web page or notify the appropriate U.S. delegate or the U.S. Codex Office, Room 4861, South Agriculture Building, 1400 Independence Avenue, SW., Washington, DC 20250-3700, if you would like to access or receive information about specific committees.

The information provided in Attachment 1 describes the status of Codex standard-setting activities by the Codex Committees for the time periods from June 1, 2007, to May 31, 2008, and June 1, 2008, to May 31, 2009. Attachment 2 provides the list of U.S. Codex Officials (includes U.S. delegates and alternate delegates). A list of forthcoming Codex sessions may be found at: http://www.codexalimentarius.net/web/current.jsp?lang=en.

Additional Public Notification

Public awareness of all segments of rulemaking and policy development is important. Consequently, in an effort to ensure that minorities, women, and persons with disabilities are aware of this notice, FSIS will announce it online through the FSIS Web page located at http://www.fsis.usda.gov/regulations/2008_Notices_Index/. FSIS will also make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals, and other individuals who have asked to be included. The Update is also available on the FSIS Web page. Through the Listserv and Web page, FSIS is able to provide information to a much broader and more diverse audience. In addition, FSIS offers an e-mail subscription service which provides automatic and customized access to selected food safety news and information. This service is available at http://www.fsis.usda.gov/news_and_events/email_subscription/. Options range from recalls to export information to regulations, directives and notices. Customers can add or delete subscriptions themselves, and have the option to password protect their accounts.

Done at Washington, DC on: May 30, 2008.
Paulo Almeida,
Acting Manager U.S. Codex.

Attachment 1:—Sanitary and Phytosanitary Activities of Codex

Codex Alimentarius Commission and Executive Committee

The Codex Alimentarius Commission will hold its Thirty-First Session June 30-July 4, 2008, in Rome, Italy. At that time, it will consider standards, codes of practice, and related matters brought to its attention by the general subject committees, commodity committees, ad hoc Task Forces and member delegations. It will also consider options to implement recommendations from the review of Codex committee structure and mandates of Codex committees and task forces, the management of the Trust Fund for the Participation of Developing Countries and Countries in Transition in the Work of the Codex Alimentarius, as well as budgetary and strategic planning issues. At this Session, the Commission will elect a Chairperson and three Vice Chairpersons.

Prior to the Commission meeting, the Executive Committee will have met at its Sixty-First Session on June 24-27, 2008. It is composed of the chairperson, vice-chairpersons, and seven members elected from the Commission, one from each of the following geographic regions: Africa, Asia, Europe, Latin America and the Caribbean, Near East, North America, and South-West Pacific. Additionally, regional coordinators from the six regional committees serve as members of the Executive Committee. It will consider the Codex Strategic Plan 2008-2013; review the Codex committee structure and mandate of Codex committees and task forces; review matters arising from reports of Codex Committees, proposals for new work, and standards management issues; and review the Trust Fund.

Responsible Agency: USDA/FSIS.

U.S. Participation: Yes.

Codex Committee on Residues of Veterinary Drugs in Foods

The Codex Committee on Residues of Veterinary Drugs in Foods determines priorities for the consideration of residues of veterinary drugs in foods and recommends Maximum Residue Limits (MRLs) for veterinary drugs. The Committee also develops codes of practice as may be required and considers methods of sampling and analysis for the determination of veterinary drug residues in food. A veterinary drug is defined as any substance applied or administered to a food producing animal, such as meat or milk producing animals, poultry, fish or bees, whether used for therapeutic, prophylactic or diagnostic purposes or for modification of physiological functions or behavior.

A Codex Maximum Limit for Residues of Veterinary Drugs (MRLVD) is the maximum concentration of residue resulting from the use of a veterinary drug (expressed in mg/kg or ug/kg on a fresh weight basis) that is recommended by the Codex Alimentarius Commission to be permitted or recognized as acceptable in or on a food. An MRLVD is based on the type and amount of residue considered to be without any toxicological hazard for human health as expressed by the Acceptable Daily Intake (ADI) or on the basis of a temporary ADI that utilizes an additional safety factor. The MRLVD also takes into account other relative public health risks as well as food technological aspects.

When establishing an MRLVD, consideration is also given to residues that occur in food of plant origin or the environment. Furthermore, the MRLVD may be reduced to be consistent with good practices in the use of veterinary drugs and to the extent that practical analytical methods are available.

An Acceptable Daily Intake (ADI) is an estimate by the Joint FAO/WHO Expert Committee on Food Additives (JECFA) of the amount of a veterinary drug, expressed on a body weight basis, that can be ingested daily over a lifetime without appreciable health risk (standard man = 60 kg).

The 17th Session of the Codex Committee on Residues of Veterinary Drugs in Foods met in Breckenridge, Colorado, on September 3-7, 2007.

The following items will be considered by the Commission at its 31st Session in June 2008.

To be considered at Step 8:

• Draft MRLs for Colistin in cattle, sheep, goat, pig, chicken, turkey and rabbit tissues, in cattle and sheep's milk and in chicken eggs, Ractopamine in cattle and pig tissues

To be considered at Step 5/8:

• Proposed Draft Maximum Residue Limits for Erythromycin in chicken and turkey tissues

The Committee completed work on the following:

• At the 17th CCRVDF, the Committee completed a Priority of Veterinary Drugs Requiring Evaluation or Reevaluation by JECFA. These drugs are Dexamethasome, Tylosin, Avilamycin, Malachite Green, Tilmicosin, Monensin, Narasin, Triclabendazole, Melengestrol acetate.

The Committee will continue work on the following:

• Draft Maximum Residue Limits for Erythromycin.

• Draft Maximum Residue Limits for Melengesterol Acetate (MGA) in cattle tissue.

• Proposed Draft Maximum Residue Limits for Triclabendazole in cattle, sheep and goat tissues.

• Draft Guidelines for the Design and Implementation of National Regulatory Food Safety Assurance Programmes Associated with the Use of Veterinary Drugs in Foods.

• Proposed Draft Risk Management Recommendation/Guidance for Veterinary Drugs for which no ADI and MRL have been recommended by JECFA due to specific health concerns.

• Discussion Paper on Consideration of Methods of Analysis and Sampling in CCRVDF (Report of the Electronic Working Group on Methods of Analysis and Sampling).

• Draft Priority List of Veterinary Drugs Requiring Evaluation or Re-evaluation by JECFA and Working Document Listing Veterinary Drugs of Potential Interest (Report of the Electronic Working Group on Priority).

• Discussion Paper on Current Practices and Needs for Further Work by the Committee on the Use of the Estimated Daily Intake (EDI) concept; Utilization of full ADI; Starter culture; and Appending Risk Management. Recommendation(s) to MRLs (Report of the Electronic Working Group on Risk Management Topics and Options for the CCRVDF)

The following work will be discontinued:

• Draft and Proposed Draft Maximum Residue Limits for Flumequine (Black tiger shrimp and shrimps).

Responsible Agencies: HHS/FDA; USDA/FSIS.

U.S. Participation: Yes.

Codex Committee on Contaminants in Foods

The Codex Committee on Contaminants in Foods (CCCF) was established by the 29th Session of the Commission when it decided to split the former Codex Committee on Food Additives and Contaminants into two committees. The CCCF establishes or endorses permitted maximum levels for contaminants and naturally occurring toxicants in food and feed, prepares priority lists of contaminants and naturally occurring toxicants for risk assessment by the Joint FAO/WHO Expert Committee on Food Additives (JECFA), considers methods of analysis and sampling for the determination of contaminants and naturally occurring toxicants in food and feed, considers and elaborates standards or codes of practice for related subject, and considers other matters assigned to it by the Commission in relation to contaminants and naturally occurring toxicants in food and feed. The Committee held its second session in The Hague, Netherlands from March 31st-April 4, 2008. The relevant document is ALINORM 08/31/41. The following items are to be considered by the 31st Session of the Commission from June 30-July 4, 2008.

To be considered for adoption:

• Proposed Draft Provisions Applied to Contaminants in the “Relations between Commodity Committees and General Committees” in the Procedural Manual.

• Priority List of Contaminants and Naturally Occurring Toxicants Proposed for Evaluation by JECFA.

To be considered at Step 8:

• Draft Maximum Level for 3-MCPD in Liquid Condiments Containing Acid-Hydrolyzed Vegetable Oriteins (Excluding Naturally Fermented Soy Sauce).

• Draft Code of Practice for Reduction of 3-Monocloropropane-1,2-diol (3-MCPD) during the Production of Acid-Hydrolyzed Vegetable Protein (Acid-HVPs) and Products that Contain Acid-HVPs.

• Draft Maximum Level for Ochratoxin A in Raw Wheat, Barley and Rye.

• Draft Maximum Levels for Total Aflatoxins in Almonds, Hazelnuts, and Pistachios “For further processing” and “Ready to eat.”

To be considered at Step 5/8:

• Proposed Draft Aflatoxin Sampling Plans for Aflatoxin Contamination in Ready-to-Eat Treenuts and Treenuts Destined for Further Processing: Almonds, Hazelnuts and Pistachios.

• Proposed Draft Code of Practice for the Prevention and Reduction of Aflatoxin Contamination in Dried Figs.

To be considered at Step 5:

• Proposed Draft Code of Practice for the Reduction of Acrylamide in Food.

• Proposed Draft Code of Practice for the Reduction of Contamination of Food with Polycyclic Aromatic Hydrocarbons (PAH) from Smoking and Direct Drying Processes.

New Work:

• Proposed Draft Maximum Levels for Total Aflatoxins in Brazil Nuts.

• Proposed Draft Code of Practice for the Prevention and Reduction of Ochratoxin A Contamination in Coffee.

The Committee is continuing to work on:

• Proposed Draft Revision of the Preamble of the GSCTF.

• Discussion Paper on Fumonisins.

• Discussion Paper on Benzene in Soft Drinks.

• Discussion Paper on Cyanogenic Glycosides.

• Discussion Paper on Mycotoxins in Sorghum.

• Discussion Paper on Ethyl Carbamate in Alcoholic Beverages.

Responsible Agencies: HHS/FDA; USDA/FSIS.

U.S. Participation: Yes.

Codex Committee on Food Additives

The Codex Committee on Food Additives was re-established by the 29th Session of the Commission, which split the former Codex Committee on Additives and Contaminants into two committees. The Committee is to establish or endorse permitted maximum levels for individual food additives, prepare a priority list of food additives for risk assessment by JECFA, assign functional classes to individual food additives, recommend specifications of identity and purity for food additives for adoption by the Commission, consider methods of analysis for the determination of additives in food, and to consider and elaborate standard for codes for related subjects such as the labeling of food additives when sold as such. The Committee met in Beijing, China, on April 15-25, 2008. The relevant document is ALINORM 8/31/12. The following items will be considered by the 31st Session of the Commission in June 2008.

To be considered for adoption:

• Amendment to the Annex to Table 3 of the GFSA.

• Amendment to the provisions for colours of GFSA.

• Priority List of Food Additives Proposed for Evaluation by JECFA.

To be considered at Step 8 and 5/8:

• Draft and proposed draft food additive provisions of the General Standard for Food Additives (GSFA).

• Draft and proposed draft Guidelines for the Use of Flavourings for adoption at Step 8 (Sections 1, 2, 3, 5, 6 and 7) and Step 5/8 (Section 4).

To be considered at Step 8:

• Draft revision of the Codex Class Names and International Numbering System for Food Additives—CAC/GL 36-2003.

To be considered at Step 5/8:

• Proposed draft revision of the Food Category System (FCF) of the GSFA.

• Proposed draft amendments to the International Numbering System (INS) for Food Additives.

• Proposed and Draft Specifications for the Identity and Purity of Food Additives.

The Committee will continue to work on:

• Draft and proposed draft Food Additive Provisions of the GSFA.

• Guidelines and Principles for the Use of Substances used as Processing Aids.

• Amendments to the INS List.

• Specifications for the Identity and Purity of Food Additives arising from the 69th JECFA meeting.

• Discussion Paper on Scope of Selected Food Categories and Use of Colours.

• Report of the Electronic Working Group on the GSFA.

• Discussion Paper on Identification of Problems and Recommendations Related to the Inconsistent Presentation of Food Additive Provisions in Codex Commodity Standards.

• Inventory of Substances Used as Processing Aids (IPA).

• Discussion Paper on Inconsistencies in the Names of Compounds in Codex Specifications and the INS.

• Priority List of Food Additives Proposed for Evaluation by JECFA (including proposals for the revision of the Circular Letter).

• Working Document for Information and Support to the Discussion on the GSFA.

Discontinued work:

• Food Additive Provisions of the General Standard for Food Additives (GSFA).

• Codex General Requirements for Natural Flavourings

• Codex Specifications for Identity and Purity of Food Additives.

• Draft and Proposed Draft Food Additive Provisions of the General Standard for Food Additives (GSFA).

Responsible Agency: HHS/FDA.

U.S. Participation: Yes.

Codex Committee on Pesticide Residues

The Codex Committee on Pesticide Residues recommends to the Codex Alimentarius Commission establishment of maximum limits for pesticide residues for specific food items or in groups of food. A Codex Maximum Residue Limit for Pesticide (MRLP) is the maximum concentration of a pesticide residue (expressed as mg/kg), recommended by the Codex Alimentarius Commission to be legally permitted in or on food commodities and animal feeds. Foods derived from commodities that comply with the respective MRLPs are intended to be toxicologically acceptable, that is, consideration of the various dietary residue intake estimates and determinations both at the national and international level in comparison with the ADI*, should indicate that foods complying with Codex MRLPs are safe for human consumption.

Codex MRLPs are primarily intended to apply in international trade and are derived from reviews conducted by the Joint Meeting on Pesticide Residues (JMPR).

(a) Review of residue data from supervised trials and supervised uses, including those reflecting national good agricultural practices (GAP). Data from supervised trials conducted at the highest nationally recommended, authorized, or registered uses are included in the review. In order to accommodate variations in national pest control requirements, Codex MRLPs take into account the higher levels shown to arise in such supervised trials, which are considered to represent effective pest control practices.

(b) Toxicological assessments of the pesticide and its residue. The 40th Session of the Committee met in Hangzhou, China, on April 14-19, 2008. The relevant document is ALINORM 08/31/24. The following items will be considered by the Commission at its 31st Session in June 2008.

To be considered at Step 8:

• Draft and Revised Draft Maximum Residue Limits.

To be considered at Step 5/8:

• Proposed Draft and Revised Draft Maximum Residue Limits.

To be considered at Step 5:

• Proposed Draft Maximum Residue Limits.

The committee is continuing work on:

• Proposed Draft and Draft Maximum Residue Limits Retained at Steps 7 and 4.

• Draft Maximum Residue Limits returned to Step 6.

• Proposed Draft Revision of the Codex Classification of Foods and Animal Feeds.

New Work:

• Achieving Globally Harmonized Maximum Residue Limits through Codex.

• Priority List of Pesticides (New Pesticides and Pesticides under Periodic Review).

• The Estimation of Measurement Uncertainty.

• Revision of the CCPR Risk Analysis Principles.

• Establishing a CCPR working group on Minor Uses and Specialty Crops.

Discontinued work:

• Discontinuation of work on the Proposed Draft and Draft Maximum Residues Limits for Pesticides.

• Codex Maximum Residue Limits Recommended for Revocation.

Responsible Agencies: EPA; USDA/AMS.

U.S. Participation: Yes.

Codex Committee on Methods of Analysis and Sampling

The Codex Committee on Methods of Analysis and Sampling:

(a) Defines the criteria appropriate to Codex Methods of Analysis and Sampling;

(b) Serves as a coordinating body for Codex with other international groups working in methods of analysis and sampling and quality assurance systems for laboratories;

(c) Specifies, on the basis of final recommendations submitted to it by the other bodies referred to in (b) above, Reference Methods of Analysis and Sampling appropriate to Codex Standards which are generally applicable to a number of foods;

(d) Considers, amends if necessary, and endorses as appropriate methods of analysis and sampling proposed by Codex (Commodity) Committees, except that methods of analysis and sampling for residues of pesticides or veterinary drugs in food, the assessment of microbiological quality and safety in food, and the assessment of specifications for food additives do not fall within the terms of reference of this Committee;

(e) Elaborates sampling plans and procedures, as may be required;

(f) Considers specific sampling and analysis problems submitted to it by the Commission or any of its Committees; and

(g) Defines procedures, protocols, guidelines or related texts for the assessment of food laboratory proficiency, as well as quality assurance systems for laboratories.

The 29th Session of the Committee met in Budapest, Hungary, on March 10-14, 2008. The relevant document is ALINORM 08/31/23. The following items will be considered by the 31st Session of the Commission in June 2008:

To be adopted:

• Proposed Amendment to the Working Instructions for the Implementation of the Criteria Approach in Codex.

• Endorsement of Methods of Analysis in Draft Standards and Existing Standards.

To be adopted at Step 5:

• Proposed Draft Guidelines on Analytical Terminology.

The Committee will continue to work on:

• Draft Guidelines for Evaluating Acceptable Methods of Analysis.

• Draft Guidelines for Settling of Disputes on Analytical (Test) Results.

• Guidance on Uncertainty from Sampling.

• Consideration of Methods of Analysis for Dioxins and Dioxin-like PCBs.

• Conformity Assessment in the Presence of Significant Measurement Error (Question referred by the Committee on Milk and Milk Products).

New Work:

• Proposed Draft Guidelines for Criteria for Methods for the Detection and Identification of Foods Derived from Biotechnology.

• Guidance on measurement uncertainty and uncertainty of sampling (Proposed Draft Revision of the Guidelines on Measurement Uncertainty).

• Guidelines for establishing methods criteria for identification of relevant analytical methods.

Responsible Agencies: HHS/FDA; USDA/GIPSA.

U.S. Participation: Yes.

Codex Committee on Food Import and Export Inspection and Certification Systems

The Codex Committee on Food Import and Export Inspection and Certification Systems is charged with developing principles and guidelines for food import and export inspection and certification systems to protect consumers and to facilitate trade. Additionally, the Committee develops principles and guidelines for the application of measures by competent authorities to provide assurance that foods comply with essential requirements, especially statutory health requirements. This encompasses work on equivalence of food inspection systems, including equivalence agreements, processes and procedures to ensure that sanitary measures are implemented; guidelines on food import control systems; and guidelines on food product certification and information exchange. The development of guidelines for the appropriate utilization of quality assurance systems to ensure that foodstuffs conform to requirements and to facilitate trade also are included in the Committee's terms of reference. The Committee met November 26-30, 2007. The reference document is ALINORM 08/31/30. The following will be considered for adoption by the Commission at its 31st Session in June 2008.

To be considered at step 5/8:

• Proposed Draft Appendix to the Guidelines on the Judgement of Equivalence of Sanitary Measures Associated with Food Inspection and Certification (N04-2004).

Certificates

The committee is continuing work on:

• Proposed Draft Guidelines for the Conduct of Foreign Audit Team Inspections.

• Proposed Draft Generic Template for Health Certificates.

• Discussion Paper on the Need for Guidance for National Food Inspection Systems.

• Discussion Paper on the Need for Guidance on Traceability/Product Tracing.

Responsible Agencies: HHS/FDA; USDA/FSIS.

U.S. Participation: Yes.

Codex Committee on General Principles

The Codex Committee on General Principles deals with procedure and general matters as are referred to it by the Codex Alimentarius Commission. The 25th Session is tentatively scheduled to be held in Paris, France, in April 2009. The Committee will continue to work on the following items:

• Proposed Draft Working Principles for Risk Analysis for Food Safety for Application by Governments.

• Proposed Draft Revised Code of Ethics for International Trade in Food.

• Recommendations from CCFICS related to the code of ethics.

Responsible Agency: USDA/FSIS.

U.S. Participation: Yes.

Codex Committee on Food Labelling

The Codex Committee on Food Labelling drafts provisions on labeling applicable to all foods; considers, amends, and endorses draft specific provisions on labeling prepared by the Codex Committees drafting standards, codes of practice and guidelines; and studies specific labeling problems assigned by the Codex Alimentarius Commission. This Committee also studies problems associated with the advertisement of food with particular reference to claims and misleading descriptions. The Committee held its 36th Session in Ottawa, Canada, on April 28-May 2, 2008. The reference document is ALINORM 08/31/22. The following items are to be considered by the 31st Session of the Commission from June 30-July 4, 2008.

To be considered at Step 8:

• Draft Amendment to the Guidelines for the Production, Processing, Labelling and Marketing of Organically Produced Foods: Annex 1 (inclusion of Ethylene for Kiwifruit and Bananas).

• Draft Amendment to the General Standard for the Labelling of Prepackaged Foods: Quantitative Declaration of Ingredients.

• Draft Definition of Advertising in Relation to Nutrition and Health Claims (Draft Amendment to the Guidelines for Use of Nutrition and Health Claims).

The Committee will continue to work on:

• Draft Amendment to the Guidelines for the Production, Processing, Labelling and Marketing of Organically Produced Foods: Annex 1 (inclusion of Ethylene for Other Products).

• Draft Amendment to the General Standard for the Labelling of Prepackaged Foods (Draft Recommendations for the Labelling of Foods Obtained through Certain Techniques of GM/GE): Definitions.

• Proposed Draft Recommendations for the Labelling of Foods and Food Ingredients Obtained through Certain Techniques of GM/GE.

The Committee agreed to undertake new work on:

• Amendment to the Guidelines for Production, Processing, Labelling and Marketing of Organically Produced Foods (rotenone).

• Revision of the Guidelines on Nutrition Labelling (Implementation of the Global Strategy for Diet, Physical Activity and Health).

The Committee agreed to discontinue work on:

• Draft Amendment to the Guidelines for the Production, Processing, Labelling and Marketing of Organically Produced Foods: Annex 2—Permitted Substances: Table 3.

Responsible Agencies: HHS/FDA; USDA/FSIS.

U.S. Participation: Yes.

Codex Committee on Food Hygiene

The Codex Committee on Food Hygiene has four primary responsibilities. The first is to draft basic provisions on food hygiene applicable to all food. These provisions normally take the form of Codes of Hygienic Practice for a specific commodity (e.g. bottled water) or group of commodities (e.g., milk and milk products). The second is to suggest and prioritize areas where there is a need for microbiological risk assessment at the international level and to consider microbiological risk management matters in relation to food hygiene and in relation to the risk assessment activities of FAO and WHO. The third is to consider, amend if necessary, and endorse food hygiene provisions that are incorporated into specific Codex commodity standards by the Codex Commodity Committees. The fourth and final responsibility is to provide such other general guidance to the Commission on matters relating to food hygiene as may be necessary. The 39th Session of the Committee met in New Delhi, India, on October 30-November 4, 2007. The relevant document is ALNORM 08/31/13.

The following items related to the activities of the Codex Committee on Food Hygiene will be considered by the Commission at its 31st Session in June 2008.

To be considered for adoption at Step 5/8:

• Proposed Draft Code of Hygienic Practice for Powdered Formulae for Infants and Young Children.

• Proposed Draft Guidelines for the Validation of Food Safety Control Measures.

• Annex II: Guidance on Microbiological Risk Management Metrics (annex to the Principles and Guidelines for the Conduct of Microbiological Risk Management).

To be considered for approval as New Work:

• Proposed Draft Annex on Leafy Green Vegetables Including Leafy Herbs (annex to the Code of Hygienic Practice for Fresh Fruits and Vegetables).

• Proposed Draft Code of Hygienic Practice for Vibrio spp. in Seafood.

To be considered for discontinuance of work:

• Application of Food Safety Metrics in Risk Management Decision Making—Pasteurized Liquid Whole Eggs (Annex to the Code of Hygienic Practice for Egg and Egg Products).

The Committee will continue or begin work on:

• Annex on the Proposed Draft Microbiological Criteria for Listeria monocytogenes in Ready-to-eat Foods (Annex to the Guidelines on the Application of General Principles of Food Hygiene to the Control of Listeria monocytogenes in Ready-to-Eat Foods).

• Annex II: Microbiological Criteria for Powdered Follow-up Formula and Formula for Special Medical Purposes for Young Children (Annex to the Code of Hygienic Practice for Powdered Formulae for Infants and Children).

• Proposed Draft Guidelines for the Control of Campylobacter and Salmonella spp. in Chicken Meat.

• Risk Analysis Policy of the Codex Committee on Food Hygiene.

Responsible Agencies: HHS/FDA; USDA/FSIS.

U.S. Participation: Yes.

Codex Committee on Fresh Fruits and Vegetables

The Codex Committee on Fresh Fruits and Vegetables is responsible for elaborating world-wide standards and codes of practice for fresh fruits and vegetables. The 14th Session of the Committee met in Mexico City, Mexico on May 12-17, 2008. The relevant document is ALINORM 08/31/35. The following items will be considered by the Commission at its 31st Session in June 2008.

To be considered at Step 8:

• Draft Codex Standard for Tomatoes.

• Draft Codex Standard for Bitter Cassava.

To be considered at Step 5:

• Draft Codex Standard for Apples.

The Committee will continue working on:

• Layout for Codex Standards on Fresh Fruits and Vegetables.

• Amendments to the Priority List for the Standardization of Fresh Fruits and Vegetables.

New Work:

• Revision of the Codex Standard for Avocado.

• Proposed New Codex Standard for Durian.

• Proposed New Codex Standard for Chili Pepper.

• Proposed New Codex Standard for Tree Tomatoes.

Discontinued Work:

• Draft Codex Guidelines for the Inspection and Certification of Fresh Fruits and Vegetables for Conformity to Quality Standards.

Responsible Agencies: USDA/AMS; HHS/FDA.

U.S. Participation: Yes.

Codex Committee on Nutrition and Foods for Special Dietary Uses

The Codex Committee on Nutrition and Foods for Special Dietary Uses (CCNFSDU) is responsible for studying nutrition issues referred by the Codex Alimentarius Commission. The Committee also drafts general provisions, as appropriate, on nutritional aspects of all foods and develops standards, guidelines, or related texts for foods for special dietary uses. The Committee met November 12-16, 2007, in Bad Neuenahr-Ahrweiler, Germany. The relevant document is ALINORM 08/31/26. The following items will be considered by the 31st Session of the Commission in June 2008.

To be adopted at Step 8:

• Draft Revised Codex Standard for Foods for Special Dietary Use for Persons Intolerant to Gluten.

• Draft Advisory Lists of Nutrient Compounds for Use in Foods for Special Dietary Uses Intended for Infants and Young Children.

To be adopted at Step 5:

• Draft Nutritional Risk Analysis Principles and Guidelines for Application to the Work of the Codex Committee on Nutrition and Foods for Special Dietary Uses.

The Committee will continue work on:

• Guidelines for Use of Nutrition Claims: Draft Table of Conditions for Nutrient Contents (Part B Containing Provisions on Dietary Fibre).

• Draft Advisory Lists of Nutrient Compounds for Use in Foods for Special Dietary Uses Intended for Infants and Young Children: Part D Advisory List of Food Additives for Special Nutrient Forms: Provisions on gum arabic (gum acacia).

• Proposed Draft Recommendations on the Scientific Basis of Health Claims.

• Proposal for New Work to Amend the Codex General Principles for the Addition of Essential Nutrients to Foods (CAC/GL 09-1987).

• Proposal for New Work to Establish a Standard for Processed Cereal-based Foods for Underweight Infants and Young Children.

New Work:

• Additional or Revised Nutrient Reference Values (NRVs) for Labelling Purposes; project document is available in Appendix VII of ALINORM 08/31/26.

Responsible Agencies: HHS/FDA; USDA/ARS.

U.S. Participation: Yes.

Codex Committee on Fish and Fishery Products

The Fish and Fishery Products Committee is responsible for elaborating standards for fresh, frozen and otherwise processed fish, crustaceans, and molluscs. The Committee met on February 18-23, 2008 in Trondheim, Norway. The relevant document is ALINORM 08/31/18. The following items will be considered by the 31st Session of the Commission in June 2008.

To be considered at Step 8:

• Draft Code of Practice for Fish and Fishery Products (Live and Raw Bivalve Molluscs, Lobsters and Relevant Definitions).

• Draft Standard for Live and Raw Bivalve Molluscs.

The Committee will continue to work on:

• Draft Code of Practice for Fish and Fishery Products (Crabs and Relevant Definitions).

• Draft Standard for Sturgeon Caviar.

• Proposed Draft List of Methods for the Determination of Biotoxins in the Draft Standard for Raw and Live Bivalve Molluscs.

• Proposed Draft Code of Practice for Fish and Fishery Products (other sections).

• Proposed Draft Standard for Quick Frozen Scallop Adductor Muscle Meat.

• Proposed Draft Code of Practice on the Processing of Scallop Meat.

• Proposed Draft Standard for Smoked Fish, Smoke-Flavoured Fish and Smoke-Dried Fish.

• Revision of the Procedure for the Inclusion of Additional Species in Standards for Fish and Fishery Products.

• Proposed Draft Standard for Fish Sauce.

• Amendment to the Standard for Quick Frozen Fish Sticks (Nitrogen Factors).

• Proposed Draft Standard for Fresh/Live and Frozen Abalone.

Responsible Agencies: HHS/FDA; USDC/NOAA/NMFS.

U.S. Participation: Yes.

Codex Committee on Milk and Milk Products

The Codex Committee on Milk and Milk Products is responsible for establishing international codes and standards for milk and milk products. The Committee held its 8th Session February 4-8, 2008, in Queenstown, New Zealand. The relevant document is ALINORM 08/31/11. The following items will be considered by the 31st Session of the Commission in June 2008.

To be considered for adoption:

• Maximum levels for annatto extracts in Codex Standards for Milk and Milk Products, including consequential changes to the provision for beta carotene (vegetable).

• Food additive listings of the Standard for Fermented Milks.

• Methods of Analysis and Sampling for Milk and Milk Products Standards.

At Step 8:

• Draft Model Export Certificate for Milk and Proposed Milk Products.

At Step 5/8:

• Proposed Draft Amendment to the List of Additives of the Codex Standard for Creams and Prepared Creams.

At Step 5:

• Proposed Draft Amendment to the Codex Standard for Fermented Milks pertaining to Drinks based on Fermented Milk .

Other Committee Work:

• Proposed Draft Standard for Processed Cheese.

• Maximum levels for annatto extracts in Codex individual cheese standards.

• Methods of Analysis and Sampling for Milk and Milk Products Standards, including AOAC standards.

Responsible Agencies: USDA/AMS; HHS/FDA.

U.S. Participation: Yes.

Codex Committee on Fats and Oils

The Codex Committee on Fats and Oils is responsible for elaborating standards for fats and oils of animal, vegetable, and marine origin. The Committee will hold its 21st Session in Kota Kinabalu, Malaysia, on February 16-20, 2009. The Committee is working on:

• Proposed Draft List of Acceptable Previous Cargoes.

• Proposed Draft Criteria (Code of Practice for the Storage and Transport of Fats and Oils in Bulk).

• Proposed Draft Amendments to the Standard for Named Vegetable Oils: Total carotenoids in unbleached palm oil.

• Proposed Draft Amendment to the Standard for Olive Oils and Olive Pomace Oils: Linolenic acid.

• Proposed Draft Amendments to the Standard for Named Vegetable Oils: Inclusion of palm kernel olein and palm kernel stearin.

Responsible Agencies: HHS/FDA; USDA/ARS.

U.S. Participation: Yes.

Codex Committee on Processed Fruits and Vegetables

The Codex Committee on Processed Fruits and Vegetables is responsible for elaborating standards for processed fruits and vegetables. The Committee will hold its 24th Session in Washington, DC, on September 15-19, 2008. The Committee is working on:

• Proposed Draft Codex Standard for Jams, Jellies and Marmalades.

• Proposed Draft Codex Standard for Certain Canned Vegetables.

• Proposed draft annexes specific to the draft Codex Standard for certain canned vegetables (proposed draft for Codex Standard for Certain Canned Vegetables).

• Project Document on Sampling Plan Including Metrological Provisions for Controlling Minimum Drained Weight of Canned Fruits and Vegetables.

• Proposed Layout for Codex Standards for Processed Fruits and Vegetables.

• Proposals for Amendments to the Priority List for Standardization of Processed Fruits and Vegetables.

• Methods of Analysis for Processed Fruits and Vegetables—Aqueous Coconut Products.

• Food Additives Provisions for Processed Fruits and Vegetables.

Responsible Agencies: USDA/AMS; HHS/FDA.

U.S. Participation: Yes.

Codex Committee on Natural Mineral Waters

The Codex Committee on Natural Mineral Waters is responsible for elaborating standards for all types of natural mineral water products. The Committee was reactivated by the 30th Session of the Codex Alimentarius Commission to address discrepancies of the health-related limits of certain substances between the Codex Standard for Natural Mineral Waters (CODEX STAN 108-1981) and the current version of the WHO Guidelines for Drinking Water Quality. The Committee should complete the task in no more than two sessions and should propose a revised Section 3.2, “Health-related limits for certain substances,” of the Codex Standard for Natural Mineral Waters for final adoption by the Commission at its Session in 2009. The 8th Session of the Committee for Natural Mineral Waters was held on February 11-15, 2008, in Lugano, Switzerland. The following items will be considered by the Commission at its 31st Session in June 2008.

To be considered at Step 5/8:

• Proposed Draft Amendment to Sections 3.2 and 6.3.2 of the Codex Standard for Natural Mineral Waters (CODEX STAN 108-1981).

Responsible Agencies: HHS/FDA; USDA/FSIS.

U.S. Participation: Yes.

Certain Codex Commodity Committees

Several Codex Alimentarius Commodity Committees have adjourned sine die. The following Committees fall into this category:

• Cocoa Products and Chocolate.

Responsible Agency: HHS/FDA.

U.S. Participation: Yes.

• Meat Hygiene.

Responsible Agency: USDA/FSIS.

U.S. Participation: Yes.

• Sugars.

Responsible Agencies: USDA/ARS; HHS/FDA.

U.S. Participation: Yes.

• Vegetable Proteins.

Responsible Agencies: USDA/ARS; HHS/FDA.

U.S. Participation: Yes.

• Cereals, Pulses and Legumes.

Responsible Agencies: HHS/FDA; USDA/GIPSA.

U.S. Participation: Yes.

Ad Hoc Intergovernmental Task Force on Antimicrobial Resistance

The ad hoc Intergovernmental Task Force on Antimicrobial Resistance was created by the 29th Session of the Commission. The Task Force, hosted by the Republic of Korea, has a time frame of four sessions, which started with its first meeting in October 2007. Its objective is to develop science-based guidance to assess the risks to human health associated with the presence in food and feed, including aquaculture, of antimicrobial resistant microorganisms and antimicrobial resistance genes and to develop appropriate risk management advice based on that assessment to reduce such risk. The first session of the Committee met in Seoul, Republic of Korea, on October 23-26, 2007. The relevant document is Alinorm 08/31/42. The following items will be considered by the Commission at its 31st Session in June 2008:

To be considered for approval:

• Proposed Amendments to the Terms of Reference of the Codex ad hoc Intergovernmental Task Force on Antimicrobial Resistance.

The Committee will continue to work on:

• Proposed Draft Risk Assessment Guidance Regarding Foodborne Antimicrobial Resistant Microorganisms.

• Proposed Draft Risk Management Guidance to Contain Foodborne Antimicrobial Resistant Microorganisms.

• Proposed Draft Guidance on Creating Risk Profiles for Antimicrobial Resistant Foodborne Microoganisms for Setting Risk Assessment and Management Priorities.

Responsible Agencies: HHS/FDA; USDA/FSIS.

U.S. Participation: Yes.

Ad Hoc Intergovernmental Task Force on Foods Derived From Biotechnology

The Commission established this task force to develop standards, guidelines, or recommendations, as appropriate, for foods derived from biotechnology or traits introduced into foods by biotechnology, on the basis of scientific evidence, risk analysis and having regard, where appropriate, to other legitimate factors relevant to the health of consumers and the promotion of fair trade practices. The Task Force, established by the 23rd Session of the Codex Alimentarius Commission for a four-year period of time, completed its work, but was re-established at the 27th Session of the Commission. The relevant document is ALINORM 08/31/34. The Committee held its 7th Session in Chiba, Japan, September 24-28, 2007. The following are to be considered at Step 5/8 by the Commission at its 31st Session in June 2008.

• Proposed Draft Guideline for the Conduct of Food Safety Assessment of Foods Derived from Recombinant-DNA Animals.

• Proposed Draft Annex: Food Safety Assessment of Foods Derived from Recombinant-DNA Plants Modified for Nutritional or Health Benefits.

• Proposed Draft Annex: Food Safety Assessment in Situations of Low-level Presence of Recombinant-DNA Plant Material in Foods.

Responsible Agencies: HHS/FDA; USDA/APHIS.

U.S. Participation: Yes.

Ad Hoc Intergovernmental Task Force on the Processing and Handling of Quick Frozen Foods

The Ad hoc Intergovernmental Task Force on the Processing and Handling of Quick Frozen Foods was created by the 29th Session of the Codex Alimentarius Commission to resolve all outstanding issues, including the quality and safety provisions, of the Code of Practice for the Processing and Handling of Quick Frozen Foods. The Task Force, hosted by Thailand, was given two years to finalize the Code. Thailand and the United States prepared a Circular Letter requesting comments on a revised Code. The resulting document prepared from these comments served as the basis for discussion at the Session of the Task Force that took place on February 25-29, 2008. The following item will be considered by the 31st Session of the Commission in June 2008:

To be considered at Step 5/8:

• Proposed draft Recommended International Code of Practice for the Processing and Handling of Quick Frozen Foods.

Responsible Agencies: FDA/HHS, USDA/AMS.

U.S. Participation: Yes.

FAO/WHO Regional Coordinating Committees

The Codex Alimentarius Commission is made up of an Executive Committee, as well as approximately 30 subsidiary bodies. Included in these subsidiary bodies are coordinating committees for groups of countries located in proximity to each other who share common concerns. There are currently six Regional Coordinating Committees:

• Coordinating Committee for Africa.

• Coordinating Committee for Asia.

• Coordinating Committee for Europe.

• Coordinating Committee for Latin America and the Caribbean.

• Coordinating Committee for the Near East.

• Coordinating Committee for North America and the South-West Pacific.

The United States participates as an active member of the Coordinating Committee for North America and the South-West Pacific, and is informed of the other coordinating committees through meeting documents, final reports, and representation at meetings. Each regional committee:

• Defines the problems and needs of the region concerning food standards and food control;

• Promotes within the committee contacts for the mutual exchange of information on proposed regulatory initiatives and problems arising from food control and stimulates the strengthening of food control infrastructures;

• Recommends to the Commission the development of world-wide standards for products of interest to the region, including products considered by the committee to have an international market potential in the future; and

• Serves a general coordinating role for the region and performs such other functions as may be entrusted to it by the Commission.

Codex Coordinating Committee for North America and the South-West Pacific

The Coordinating Committee (CCNASWP) is responsible for defining problems and needs concerning food standards and food control of all Codex member countries of the region. The next session of the committee is tentatively scheduled for October 27-30, 2008 in Tonga. Items on the agenda for the next meeting may include:

• Draft new Strategic Plan for CCNASWP.

• Report of the Electronic Working Group on Objective 6 of the Strategic Plan (on promoting the development of standards for food products produced in Pacific Island countries).

• Discussion Paper on the Development of a Standard for Kava.

• Discussion Paper on the Development of a Standard for Nonu (Noni) Products.

• Progress Report: Joint FAO/WHO Evaluation of the Codex Alimentarius and other FAO and WHO Work on Food Standards.

• Evaluation of the effectiveness of the Trust Fund for the participation of developing countries in Codex.

• Nomination of regional coordinator.

Responsible Agency: USDA/FSIS.

U.S. Participation: Yes.

Attachment 2—U.S. Codex Alimentarius Officials

Codex Committee Chairpersons

Codex Committee on Food Hygiene

Dr. Karen Hulebak, Chief Scientist, Office of Public Health Science, Food Safety and Inspection Service, U.S. Department of Agriculture, 1400 Independence Avenue, SW., Room 4861, South Building, Washington, DC 20250-3700, Phone: (202) 205-7760, Fax: (202) 720-3157, E-mail: karen.hulebak@fsis.usda.gov.

Codex Committee on Processed Fruits and Vegetables

Mr. Terry Bane, Branch Chief, Processed Products Branch, Fruit and Vegetable Programs, AMS, Room 0709, South Building, Stop 9247, 1400 Independence Avenue, SW., Washington, DC 20250-0247, Phone: (202) 720-4693, Fax: (202) 690-1087, E-mail: terry.bane@usda.gov.

Codex Committee on Residues of Veterinary Drugs in Foods

Dr. Bernadette Dunham, Director, Center for Veterinary Medicine, U.S. Department of Health and Human Services, Food and Drug Administration, 7519 Standish Place (MPN4), Rockville, MD 20855, Phone: (240) 276-9000, Fax: (240) 276-9001, E-mail: Bernadette.dunham@fda.hhs.gov.

Codex Committee on Cereals, Pulses and Legumes (adjourned sine die)

Vacant.

Listing of U.S. Delegates and Alternates Worldwide General Subject Codex Committees

Codex Committee on Residues of Veterinary Drugs in Foods

(Host Government—United States)

U.S. Delegate, Steven D. Vaughn, D.V.M., Director, Office of New Animal Drug Evaluation, Center for Veterinary Medicine, FDA, 7500 Standish Place, Rockville, MD 20855, Phone: (301) 827-1796, Fax: (301) 594-2297, E-mail: SVaughn@cvm.fda.gov.

Alternate Delegate, Emilio Esteban, PhD, Laboratory Director, Food Safety and Inspection Service, Department of Agriculture, 950 College Station Road, Athens, Georgia 30605, Phone: (706) 546-3429, Fax: (706) 546-3428, Emilio.Esteban@fsis.usda.gov.

Codex Committee on Food Additives

(Host Government—China)

U.S. Delegate, Dennis M. Keefe, PhD, Office of Premarket Approval, Center for Food Safety and Applied Nutrition, Food and Drug Administration (HFS-200), Harvey W. Wiley Federal Building, 5100 Paint Branch Parkway, College Park, MD 20740-3835, Phone: (202) 418-3113, Fax: (202) 418-3131, E-mail: dennis.keefe@fda.hhs.gov.

Alternate Delegate, Susan E. Carberry, PhD, Supervisory Chemist, Division of Petition Review, Office of Food Additive Safety (HFS-265), Center for Food Safety and Applied Nutrition, Food and Drug Administration, 5100 Paint Branch Parkway, College Park, MD 20740, Phone: (301) 436-1269, Fax: (301) 436-2972, E-mail: Susan.Carberry@fda.hhs.gov.

Codex Committee on Contaminants in Foods

(Host Government—the Netherlands)

U.S. Delegate, Nega Beru, PhD, Director, Office of Plant and Dairy Foods (HFS-300), Center for Food Safety and Applied Nutrition, Food and Drug Administration, 5100 Paint Branch Parkway, College Park, MD 20740, Phone: (301) 436-1700, Fax: (301) 436-2651, E-mail: Nega.Beru@fda.hhs.gov.

Alternate Delegate, Kerry Dearfield, PhD, Scientific Advisor for Risk Assessment, Office of Public Health Science, Food Safety and Inspection Service, U.S. Department of Agriculture, 1400 Independence Avenue, SW., Room 380, Aerospace Center, Washington, DC 20250, Phone: (202) 690-6451, Fax: (202) 690-6337, E-mail: Kerry.Dearfield@fsis.usda.gov.

Codex Committee on Pesticide Residues

(Host Government—China)

U.S. Delegate, Lois Rossi, Director of Registration Division, Office of Pesticide Programs, U.S. Environmental Protection Agency, Ariel Rios Building, 1200 Pennsylvania Avenue, NW., Washington, DC 20460, Phone: (703) 305-5035, Fax: (703) 305-5147, E-mail: rossi.lois@epa.gov.

Alternate Delegate, Robert Epstein, PhD, Associate Deputy Administrator, Science and Technology, Agricultural Marketing Service, USDA, P.O. Box 96456, Room 3522S, Mail Stop 0222, 1400 Independence Avenue, SW., Washington, DC 20090, Phone: (202) 720-2158, Fax: (202) 720-1484, E-mail: robert.epstein@usda.gov.

Codex Committee on Methods of Analysis and Sampling

(Host Government—Hungary)

U.S. Delegate, Gregory Diachenko, PhD, Director, Division of Product Manufacture and Use, Office of Premarket Approval, Center for Food Safety and Applied Nutrition (CFSAN), Food and Drug Administration (HFS-300), Harvey W. Wiley Federal Building, 5100 Paint Branch Parkway, College Park, MD 20740-3835, Phone: (301) 436-2387, Fax: (301) 436-2364, E-mail: gregory.diachenko@fda.hhs.gov.

Alternate Delegate, Donald C. Kendall, Technical Services Division, Grain, Inspection, Packers & Stockyards Administration, U.S. Department of Agriculture, 10383 N. Ambassador Drive, Kansas City, MO 64153-1394, Phone: (816) 891-0463, Fax: (816) 891-0478, E-mail: Donnald.C.Kendall@usda.gov.

Codex Committee on Food Import and Export Inspection and Certification Systems

(Host Government—Australia)

U.S. Delegate, Catherine Carnevale, D.V.M, Director, International Affairs Staff, Center for Food Safety and Applied Nutrition, Food and Drug Administration (HFS-550), Harvey W. Wiley Federal Building, 5100 Paint Branch Parkway, College Park, MD 20740-3835, Phone: (301) 436-2380, Fax: (301) 436-2612, E-mail: catherine.carnevale@fda.hhs.gov.

Alternate Delegate, Mary Stanley, Director, Import Inspection Division, Office of International Affairs, Food Safety and Inspection Service, U.S. Department of Agriculture, Room 2147-South Building, 1400 Independence Avenue, SW., Washington, DC 20250, Phone: (202) 720-0287, Fax: (202) 720-6050, E-mail: Mary.Stanley@fsis.usda.gov.

Codex Committee on General Principles

(Host Government—France)

U.S.Delegate.

Note: A member of the Steering Committee heads the delegation to meetings of the General Principles Committee.

Codex Committee on Food Labeling

(Host Government—Canada)

U.S. Delegate, Barbara O. Schneeman, PhD, Director, Office of Nutritional Products, Labelling and Dietary Uses, Center for Food Safety and Applied Nutrition, FDA, 5100 Paint Branch Parkway (HFS-800), College Park, MD 20740, Phone: (301) 436-2373, Fax: (301) 436-2636, E-mail: barbara.schneeman@fda.hhs.gov.

Alternate Delegate, Heejeong Latimer, Risk Analyst, Risk Assessment Division, Food Safety and Inspection Service, USDA, 1400 Independence Avenue, SW., Rm. 333, Aerospace Center, Washington, DC 20250, Phone: (202) 690-0823, Fax: (202) 205-3625, E-mail: Heejeong.Latimer@fsis.usda.gov.

Codex Committee on Food Hygiene

(Host Government—United States)

U.S. Delegate, Robert L. Buchanan, PhD, Lead Scientist, Food Safety Initiative, Center for Food Safety and Applied Nutrition, Food and Drug Administration (HFS-006), Harvey W. Wiley Federal Building, 5100 Paint Branch Parkway, College Park, MD 20740-3835, Phone: (301) 436-2369, Fax: (301) 436-2360, E-mail: robert.buchanan@fda.hhs.gov.

Alternate Delegates, Kerry Dearfield, PhD, Scientific Advisor for Risk Assessment, Office of Public Health Science, Food Safety and Inspection Service, U.S. Department of Agriculture, 1400 Independence Avenue, SW., Room 380, Aerospace Center, Washington, DC 20250, Phone: (202) 690-6451, Fax: (202) 690-6337, E-mail: Kerry.Dearfield@fsis.usda.gov.

Rebecca Buckner, PhD, Consumer Safety Officer, Center for Food Safety and Applied Nutrition, Food and Drug Administration, Room 3B-0033 Harvey Wiley Building, 5100 Paint Branch Parkway, College Park, MD 20740, Phone: (301) 436-1486, Fax: (301) 436-2632, E-mail: rebecca.buckner@fda.hhs.gov.

Codex Committee on Nutrition and Food for Special Dietary Uses

(Host Government—Germany)

U.S. Delegate, Barbara O. Schneeman, PhD, Director, Office of Nutritional Products, Labeling and Dietary Supplements, Center for Food Safety and Applied Nutrition, Food and Drug Administration, 5100 Paint Branch Highway (HFS-800), College Park, MD 20740, Phone: (301) 436-2373, Fax: (301) 436-2636, E-mail: barbara.schneeman@fda.hhs.gov.

Alternate Delegate, Allison Yates, PhD, Director, Beltsville Human Nutrition Research Center, Agricultural Research Service, U.S. Department of Agriculture, 10300 Baltimore Avenue, Bldg 307C, Room 117, Beltsville, MD 20705, Phone: (301) 504-8157, Fax: (301) 504-9381, E-mail: Allison.Yates@ars.usda.gov.

Worldwide Commodity Codex Committees Codex Committee on Fresh Fruits and Vegetables

(Host Government—Mexico)

U.S. Delegate, Dorian LaFond, International Standards Coordinator, Fruit and Vegetables Program, Agricultural Marketing Service, USDA, Room 2086, South Building, 1400 Independence Avenue, SW., Washington, DC 20250, Phone: (202) 690-4944, Fax: (202) 720-4722, E-mail: dorian.lafond@usda.gov.

Alternate Delegate, Michelle Smith, PhD, Interdisciplinary Scientist, Office of Plant and Dairy Foods, Center for Food Safety and Applied Nutrition, Food and Drug Administration (HFS-306), Harvey W. Wiley Federal Building, 5100 Paint Branch Parkway, College Park, MD 20740-3835, Phone: (301) 436-2024, Fax: (301) 436-2651, E-mail: Michelle.Smith@fda.hhs.gov.

Codex Committee on Fish and Fishery Products

(Host Government—Norway)

U.S. Delegate, Donald Kraemer, Acting Director, Office of Seafood, Center for Food Safety and Applied Nutrition, Food and Drug Administration, Harvey W. Wiley Federal Building, 5100 Paint Branch Parkway, College Park, MD 20740-3835, Phone: (301) 436-2300, Fax: (301) 436-2599, E-mail: donald.kraemer@fda.hhs.gov.

Alternate Delegate, Timothy Hansen, Director, Seafood Inspection Program, National Oceanic and Atmospheric Administration, Department of Commerce, Room 10837, 1315 East West Highway, Silver Spring, MD 20910, Phone: (301) 713-2355, Fax: (301) 713-1081, E-mail: Timothy.Hansen@noaa.gov.

Codex Committee on Cereals, Pulses and Legumes (adjourned—sine die)

(Host Government—United States

U.S. Delegate, Henry Kim, PhD, Supervisory Chemist, Division of Plant Product Safety, Office of Plant and Dairy Foods, Center for Food Safety and Applied Nutrition, FDA, 5100 Paint Branch Parkway, College Park, MD 20740, Phone: (301) 436-2023, Fax: (301) 436-2651, E-mail: henry.kim@fda.hhs.gov.

Codex Committee on Milk and Milk Products

(Host Government—New Zealand)

U.S. Delegate, Duane Spomer, Food Defense Advisor, Agricultural Marketing Service, U.S. Department of Agriculture, Room 2750, South Building, 1400 Independence Avenue, SW., Washington, DC 20250, Phone: (202) 720-1861, Fax: (202) 205-5772, E-mail: duane.spomer@usda.gov.

Alternate Delegate, John F. Sheehan, Director, Division of Dairy and Egg Safety, Office of Plant and Dairy Foods and Beverages, Center for Food Safety and Applied Nutrition, Food and Drug Administration (HFS-306), Harvey W. Wiley Federal Building, 5100 Paint Branch Parkway, College Park, MD 20740, Phone: (301) 436-1488, Fax: (301) 436-2632, E-mail: john.sheehan@fda.hhs.gov.

Codex Committee on Fats and Oils

(Host Government—United Kingdom)

U.S. Delegate, Dennis M. Keefe, PhD, Office of Food Additive Safety, Center for Food Safety and Applied Nutrition, Food and Drug Administration (HFS-200), Harvey W. Wiley Federal Building, 5100 Paint Branch Parkway, College Park, MD 20740-3835, Phone: (301) 436-1284, Fax: (301) 436-2972, E-mail: dennis.keefe@fda.hhs.gov.

Alternate Delegate, Kathleen Warner, Agricultural Research Service, USDA, 1815 N. University Street, Peoria, IL 61604, Phone: (309) 681-6584, Fax: (309) 681-6668, E-mail: warnerk@ncaur.usda.gov.

Codex Committee on Cocoa Products and Chocolate

(Host Government—Switzerland)

U.S. Delegate, Michelle Smith, PhD, Food Technologist, Office of Plant and Dairy Foods and Beverages, Center for Food Safety and Applied Nutrition, Food and Drug Administration (HFS-306), Harvey W. Wiley Federal Building, 5100 Paint Branch Parkway, College Park, MD 20740-3835, Phone: (301) 436-2024, Fax: (301) 436-2651, E-mail: michelle.smith@fda.hhs.gov.

Codex Committee on Sugars

(Host Government—United Kingdom)

U.S. Delegate, Martin Stutsman, J.D., Office of Plant and Dairy Foods and Beverages, Center for Food Safety and Applied Nutrition, Food and Drug Administration (HFS-306), Harvey W. Wiley Federal Building, 5100 Paint Branch Parkway, College Park, MD 20740-3835, Phone: (301) 436-1642, Fax: (301) 436-2651, E-mail: martin.stutsman@fda.hhs.gov.

Codex Committee on Processed Fruits and Vegetables

(Host Government—United States)

U.S. Delegate, Dorian LaFond, International Standards Coordinator, Fruit and Vegetable Division, Agricultural Marketing Service, USDA, Room 2086, South Building, 1400 Independence Avenue, SW., Washington, DC 20250, Phone: (202) 690-4944, Fax: (202) 720-0016, E-mail: dorian.lafond@usda.gov.

Alternate Delegate, Paul South, PhD, Division of Plant Product Safety, Office of Plant and Dairy Foods, Center for Food Safety and Applied Nutrition, Food and Drug Administration, 5100 Paint Branch Parkway, College Park, MD 20740, Phone: (301) 436-1640, Fax: (301) 436-2561, E-mail: paul.south@fda.hhs.gov.

Codex Committee on Vegetable Proteins (Adjourned—sine die)

(Host Government—Canada)

U.S. Delegate, Dr. Wilda H. Martinez, Area Director, ARS North Atlantic Area, Agricultural Research Service, USDA, 600 E. Mermaid Lane, Wyndmoor, PA 19038, Phone: (215) 233-6593, Fax: (215) 233-6719, E-mail: wmartinez@ars.usda.gov.

Codex Committee on Meat Hygiene (Adjourned—sine die)

(Host Government—New Zealand)

U.S. Delegate, Perfecto Santiago, D.V.M., Deputy Assistant Administrator, Office of Food Security and Emergency Preparedness, Room 3130, South Building, Food Safety and Inspection Service, USDA, 1400 Independence Avenue, SW., Washington, DC 20250, Phone: (202) 205-0452, Fax: (202) 690-5634, E-mail: perfecto.santiago@fsis.usda.gov.

Codex Committee on Natural Mineral Waters

(Host Government—Switzerland)

U.S. Delegate, Lauren Robin, PhD, Review Chemist, Office of Plant and Dairy Foods, Center for Food Safety and Applied Nutrition, Food and Drug Administration, Harvey W. Wiley Federal Building, 5100 Paint Branch Parkway, College Park, MD 20740-3835, Phone: (301) 436-1639, Fax: (301) 436-2651, E-mail: Lauren.Robin@fda.hhs.gov.

Ad Hoc Intergovernmental Task Forces—Ad Hoc Intergovernmental Task Force on Foods Derived from Modern Biotechnology (Adjourned—sine die)

(Host Government—Japan)

U.S. Delegate, Eric Flamm, PhD, Senior Advisor, Office of the Commissioner, Food and Drug Administration, Room 1561, Parklawn Building, Rockville, MD 20857, Phone: (301) 827-0591, Fax: (301) 827-4774, E-mail: eflamm@oc.fda.gov.

Alternate Delegate, Cindy Smith, Deputy Administrator, Biotechnology Regulatory Services, Animal and Plant Health Inspection Service, U.S. Department of Agriculture, Unit 98, Ste. 5B05, 4700 River Road, Riverdale, MD 20737, Phone: (301) 734-7324, Fax: (301) 734-6352, E-mail: Cindy.J.Smith@aphis.usda.gov.

Ad Hoc Intergovernmental Task Force on Antimicrobial Resistance

(Host Government—Republic of Korea)

Delegate, David G. White, D.V.M., Director, National Antimicrobial Resistance, Monitoring System (NARMS), U.S. Food and Drug Administration, Center for Veterinary Medicine, Office of Research, 8401 Muirkirk Rd., Laurel, MD 20708, Phone: (301) 210-4181, Fax: (301) 210-4685, E-mail: David.White@fda.hhs.gov.

Alternate Delegate, Neena Anandaraman, D.V.M., Veterinary Medical Officer, Zoonotic Diseases & Residue Surveillance Division, Office of Public Health Science, Food Safety and Inspection Service, U.S. Department of Agriculture, Room 343, Aerospace Center, Washington, DC 20250, Phone: (202) 690-6429, Fax: (202) 690-6565, E-mail: neena.anandaraman@fsis.usda.gov.

Ad Hoc Intergovernmental Task Force on Quick Frozen Foods

(Host Government—Thailand)

Delegate, Donald Zink, PhD, Senior Scientist, Office of Plant and Dairy Foods, Center for Food Safety and Applied Nutrition, Food and Drug Administration (HFS-302), Harvey W. Wiley Federal Building, 5100 Paint Branch Parkway, College Park, MD 20740-3835, Phone: (301) 436-1692, Fax: (301) 436-2632, E-mail: Donald.Zink@fda.hhs.gov.

There are six regional coordinating committees:

Coordinating Committee for Africa

Coordinating Committee for Asia

Coordinating Committee for Europe

Coordinating Committee for Latin America and the Caribbean

Coordinating Committee for the Near East

Coordinating Committee for North America and the South-West Pacific.

Contact: Paulo Almeida, Associate Manager for Codex, U.S. Codex Office, Food Safety and Inspection Service, Room 4861, South Building, 1400 Independence Avenue, SW., Washington, DC 20250-3700, Phone: (202) 205-7760, Fax: (202) 720-3157, E-mail: paulo.almeida@fsis.usda.gov.

[FR Doc. E8-12563 Filed 6-4-08; 8:45 am]

BILLING CODE 3410-DM-P